FEDERAL TRADE COMMISSION

16 CFR Part 312

Children's Online Privacy Protection Rule

AGENCY: Federal Trade Commission.

ACTION: Notice of Proposed “Safe Harbor” Guidelines and Request for Public Comment.

SUMMARY: The Federal Trade Commission publishes this notice and request for public comment concerning proposed self-regulatory guidelines under the safe harbor provision of the Children's Online Privacy Protection Rule, 16 CFR 312.10(a).

DATES: Written comments must be submitted on or before April 6, 2000. Comments will be posted on the Commission's website: http://www.ftc.gov.

ADDRESSES: Written comments should be submitted to: Secretary, Federal Trade Commission, Room H-159, 600 Pennsylvania Avenue, NW., Washington, DC 20580. The Commission requests that commenters submit the original plus five copies, if feasible. To enable prompt review and public access, comments also should be submitted, if possible, in electronic form, on either a 5¼ or a 3½ inch computer disk, with a disk label stating the name of the commenter and the name and version of the word processing program used to create the document. (Programs based on DOS or Windows are preferred. Files from other operating systems should be submitted in ASCII text format.) Alternatively, the Commission will accept comments submitted to the following e-mail address, safeharbor@ftc.gov. Individual members of the public filing comments need not submit multiple copies or comments in electronic form. All submissions should be captioned: “PrivacyBot.com Safe Harbor Proposal—Comment, P004504.”

FOR FURTHER INFORMATION CONTACT: Loren G. Thompson, (202) 326-2049, Abbe Goldstein, (202) 326-3423, or Elizabeth Delaney, (202) 326-2903, Division of Advertising Practices, Bureau of Consumer Protection, Federal Trade Commission, 601 Pennsylvania Ave., NW, Washington, DC 20580.

SUPPLEMENTARY INFORMATION:

Section A. Background

On October 20, 1999, the Commission issued its final Rule pursuant to the Children's Online Privacy Protection Act, 15 U.S.C. 6501 et seq.¹ The Rule requires certain website operators to post privacy policies, provide notice, and obtain parental consent prior to collecting certain personal information from children. The Rule contains a “safe harbor” provision enabling industry groups or others to submit self-regulatory guidelines that would implement the protections of the Rule to the Commission for approval.²

¹ 64 FR 59888 (Nov. 3, 1999).

² See 16 CFR 312.10; 64 FR at 59906-59908; 59915.

Pursuant to § 312.10 of the Rule, PrivacyBot.com has submitted proposed self-regulatory guidelines to the Commission for approval. The full text of the proposed guidelines is available on the Commission's website, www.ftc.gov.

Section B. Questions on the Proposed Guidelines

The Commission is seeking comment on various aspects of the proposed guidelines, and is particularly interested in receiving comment on the questions that follow. These questions are designed to assist the public and should not be construed as a limitation on the issues on which public comment may be submitted. Responses to these questions should cite the numbers and subsection of the questions being answered. For all comments submitted, please provide any relevant data, statistics, or any other evidence, upon which those comments are based.

1. Please provide comment on any or all of the provisions in the proposed guidelines. For each provision commented on please describe (a) the impact of the provision(s) (including any benefits and costs), if any, and (b) what alternatives, if any, PrivacyBot.com should consider, as well as the costs and benefits of those alternatives.

2. Do the provisions of the proposed guidelines governing operators' information practices provide “the same or greater protection for children” as those contained in §§ 312.2-312.8 of the Children's Online Privacy Protection Rule? Where possible, please cite the relevant sections of both the Rule and the proposed guidelines.

3. Are the mechanisms used to assess operators' compliance with the guidelines effective? See Rule § 312.10(b)(2).³ If not, please describe (a) how the proposed guidelines could be modified to satisfy the Rule's requirements, and (b) the costs and benefits of those modifications.

³ 64 FR at 59915.

4. Are the incentives for operators' compliance with the guidelines effective? See Rule § 312.10(b)(3).⁴ If not, please describe (a) how the proposed guidelines could be modified to satisfy the Rule's requirements, and (b) the costs and benefits of those modifications.

⁴ Id.

5. Do the guidelines provide adequate means for resolving consumer complaints? If not, please describe (a) how the proposed guidelines could be modified to resolve consumer complaints adequately, and (b) the costs and benefits of those modifications.

6. Please comment on the effectiveness of automation in the proposed guidelines and describe other means or mechanisms, if any, PrivacyBot.com should consider for its safe harbor program.

By direction of the Commission.
Donald S. Clark,
Secretary.

[FR Doc. 00-5505 Filed 3-6-00; 8:45 am]

BILLING CODE 6750—01-M